DEPARTMENT OF STATE

[Public Notice: 9283]

Determination Under Section 610 of the Foreign Assistance Act of 1961, as Amended

Pursuant to the authority vested in me by section 610 of the Foreign Assistance Act of 1961, as amended (the “Act”), and the President's Memorandum of Delegation dated June 25, 2015, I hereby determine it necessary for the purposes of the Act that the following funds be transferred to, and consolidated with, funds made available under chapter 4 of part II of the Act, and such funds are hereby so transferred and consolidated:

• Up to $12,468,000 of FY 2010 International Narcotics and Law Enforcement (INCLE) funds to the Economic Support Fund (ESF) account;

• Up to $13,000,000 in FY 2011 INCLE funds to the ESF account; and

• Up to $2,032,000 of FY 2014 INCLE-Overseas Contingency Operations (OCO) funds to the ESF-OCO account.

This determination shall be reported to Congress and published in the Federal Register.

Dated: August 27, 2015.
John F. Kerry,
Secretary of State.

[FR Doc. 2015-24271 Filed 9-23-15; 8:45 am]

BILLING CODE 4710-10-P